DEPARTMENT OF ENERGY

Federal Energy Regulatory Commission

Combined Notice of Filings #1

Take notice that the Commission received the following Complaints and Compliance filings in EL Dockets:

Docket Numbers: EL24-107-000.

Applicants: Pacific Gas and Electric Company.

Description: Petition for Declaratory Order of Pacific Gas and Electric Company.

Filed Date: 4/30/24.

Accession Number: 20240430-5643.

Comment Date: 5 p.m. ET 5/30/24.

Docket Numbers: EL24-108-000.

Applicants: New York Power Authority.

Description: Petition for Declaratory Order of New York Power Authority.

Filed Date: 4/25/24.

Accession Number: 20240425-5332.

Comment Date: 5 p.m. ET 5/28/24.

Take notice that the Commission received the following electric rate filings:

Docket Numbers: ER23-93-002.

Applicants: Consumers Energy Company.

Description: Compliance filing: Wholesale Distribution Tariff & WDS SAs—Docket No. ER23-93 to be effective 12/14/2022.

Filed Date: 5/6/24.

Accession Number: 20240506-5118.

Comment Date: 5 p.m. ET 5/28/24.

Docket Numbers: ER23-2935-003.

Applicants: Midcontinent Independent System Operator, Inc., Northern Indiana Public Service Company LLC.

Description: Tariff Amendment: Midcontinent Independent System Operator, Inc. submits tariff filing per 35.17(b): 2024-05-06_Amendment NIPSCO Request for Depreciation Rates-Additional Supplement to be effective 12/31/9998.

Filed Date: 5/6/24.

Accession Number: 20240506-5100.

Comment Date: 5 p.m. ET 5/28/24.

Docket Numbers: ER24-1196-001.

Applicants: Alabama Power Company, Georgia Power Company, Mississippi Power Company.

Description: Tariff Amendment: Alabama Power Company submits tariff filing per 35.17(b): Brush Creek Renewables LGIA Deficiency Response to be effective 1/24/2024.

Filed Date: 5/6/24.

Accession Number: 20240506-5082.

Comment Date: 5 p.m. ET 5/28/24.

Docket Numbers: ER24-1214-001.

Applicants: Alabama Power Company, Georgia Power Company, Mississippi Power Company.

Description: Tariff Amendment: Alabama Power Company submits tariff filing per 35.17(b): Shortleaf Solar LGIA Deficiency Response to be effective 1/30/2024.

Filed Date: 5/6/24.

Accession Number: 20240506-5081.

Comment Date: 5 p.m. ET 5/28/24.

Docket Numbers: ER24-1328-001.

Applicants: Atrisco Solar LLC.

Description: Tariff Amendment: Response to Deficiency Letter in Docket ER24-1328-000 to be effective 5/1/2024.

Filed Date: 5/3/24.

Accession Number: 20240503-5205.

Comment Date: 5 p.m. ET 5/24/24.

Docket Numbers: ER24-1329-001.

Applicants: Atrisco Energy Storage LLC.

Description: Tariff Amendment: Response to Deficiency Letter in ER24-1329-000 to be effective 5/1/2024.

Filed Date: 5/3/24.

Accession Number: 20240503-5209.

Comment Date: 5 p.m. ET 5/24/24.

Docket Numbers: ER24-1330-001.

Applicants: Quail Ranch Solar LLC.

Description: Tariff Amendment: Response to Deficiency Letter in Docket ER24-1330 to be effective 8/1/2025.

Filed Date: 5/3/24.

Accession Number: 20240503-5212.

Comment Date: 5 p.m. ET 5/24/24.

Docket Numbers: ER24-1331-001.

Applicants: Quail Ranch Energy Storage LLC.

Description: Tariff Amendment: Response to Deficiency Letter in ER24-1331-000 to be effective 8/1/2025.

Filed Date: 5/3/24.

Accession Number: 20240503-5215.

Comment Date: 5 p.m. ET 5/24/24.

Docket Numbers: ER24-1943-000.

Applicants: Puget Sound Energy, Inc.

Description: § 205(d) Rate Filing: HF Sinclair NITSA,NOA and IA to be effective 5/1/2024.

Filed Date: 5/3/24.

Accession Number: 20240503-5197.

Comment Date: 5 p.m. ET 5/24/24.

Docket Numbers: ER24-1944-000.

Applicants: Puget Sound Energy, Inc.

Description: § 205(d) Rate Filing: Air Liquide NITSA, NOA and IA to be effective 5/1/2024.

Filed Date: 5/3/24.

Accession Number: 20240503-5204.

Comment Date: 5 p.m. ET 5/24/24.

Docket Numbers: ER24-1945-000.

Applicants: Puget Sound Energy, Inc.

Description: § 205(d) Rate Filing: Tesoro NITSA, NOA and IA to be effective 5/1/2024.

Filed Date: 5/3/24.

Accession Number: 20240503-5219.

Comment Date: 5 p.m. ET 5/24/24.

Docket Numbers: ER24-1946-000.

Applicants: Keystone Appalachian Transmission Company, PJM Interconnection, L.L.C.

Description: § 205(d) Rate Filing: Keystone Appalachian Transmission Company submits tariff filing per 35.13(a)(2)(iii: KATCo submits Operating and Interconnection Agreement, SA No. 6650 to be effective 7/8/2024.

Filed Date: 5/6/24.

Accession Number: 20240506-5041.

Comment Date: 5 p.m. ET 5/28/24.

Docket Numbers: ER24-1947-000.

Applicants: Keystone Appalachian Transmission Company, PJM Interconnection, L.L.C.

Description: § 205(d) Rate Filing: Keystone Appalachian Transmission Company submits tariff filing per 35.13(a)(2)(iii: KATCo submits one Construction Agreement SA No. 6937 to be effective 7/8/2024.

Filed Date: 5/6/24.

Accession Number: 20240506-5043.

Comment Date: 5 p.m. ET 5/28/24.

Docket Numbers: ER24-1948-000.

Applicants: Entergy Arkansas, LLC, Entergy Louisiana, LLC, Entergy Mississippi, LLC, Entergy New Orleans, LLC, Entergy Texas, Inc.

Description: Post-Retirement Benefits Other than Pensions for 2023 Calendar Year of Entergy Arkansas, LLC, et al.

Filed Date: 5/3/24.

Accession Number: 20240503-5247.

Comment Date: 5 p.m. ET 5/24/24.

Docket Numbers: ER24-1949-000.

Applicants: Entergy Arkansas, LLC, Entergy Louisiana, LLC, Entergy Mississippi, LLC, Entergy New Orleans, LLC, Entergy Texas, Inc.

Description: Annual Informational Filing regarding Prepaid Pension Cost and Accrued Pension Cost of Entergy Arkansas, LLC, et al.

Filed Date: 5/3/24.

Accession Number: 20240503-5248.

Comment Date: 5 p.m. ET 5/24/24.

Docket Numbers: ER24-1950-000.

Applicants: System Energy Resources, Inc.

Description: Annual Informational Filing regarding Prepaid Pension Cost and Accrued Pension Cost of System Energy Resources, Inc.

Filed Date: 5/3/24.

Accession Number: 20240503-5250.

Comment Date: 5 p.m. ET 5/24/24.

Docket Numbers: ER24-1951-000.

Applicants: Duke Energy Florida, LLC.

Description: § 205(d) Rate Filing: DEF-City of Quincy NITSA SA No. 153 to be effective 4/21/2024.

Filed Date: 5/6/24.

Accession Number: 20240506-5066.

Comment Date: 5 p.m. ET 5/28/24.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 6, 2024.
Debbie-Anne A. Reese,
Acting Secretary.

[FR Doc. 2024-10269 Filed 5-10-24; 8:45 am]

BILLING CODE 6717-01-P